DEPARTMENT OF COMMERCE

National Oceanic and Atmospheric Administration

50 CFR Part 679

[Docket No. 021122286-2286-01; I.D. 110602B]

Fisheries of the Exclusive Economic Zone Off Alaska; Gulf of Alaska; Proposed 2003 Harvest Specifications for Groundfish

AGENCY: National Marine Fisheries Service (NMFS), National Oceanic and Atmospheric Administration (NOAA), Commerce.

ACTION: Proposed 2003 initial harvest specifications for groundfish and associated management measures; request for comments.

SUMMARY: NMFS proposes 2003 initial harvest specifications for groundfish, reserves and apportionment thereof, Pacific halibut prohibited species catch (PSC) limits, and associated management measures for the groundfish fishery of the Gulf of Alaska (GOA). This action is necessary to establish harvest limits and associated management measures for groundfish during the 2003 fishing year. The intended effect of this action is to conserve and manage the groundfish resources in the GOA in accordance with the Magnuson-Stevens Fishery Conservation and Management Act (Magnuson-Stevens Act) and to provide an opportunity for public participation in the annual specification process.

DATES: Comments must be received by January 13, 2003.

ADDRESSES: Comments must be sent to Sue Salveson, Assistant Regional Administrator, Sustainable Fisheries Division, Alaska Region, NMFS, P.O. Box 21668, Juneau, AK 99802, Attn: Lori Durall, or delivered to room 401 of the Federal Building, 709 West 9th Street, Juneau, AK. Comments also may be sent via facsimile (fax) to 907-586-7557. Comments will not be accepted if submitted via e-mail or Internet.

Copies of the final 2001 Stock Assessment and Fishery Evaluation (SAFE) reports, dated November 2001, are available from the North Pacific Fishery Management Council, West 4th Avenue, Suite 306, Anchorage, AK 99510 or from its homepage at http://www.fakr.noaa.gov/npfmc. Copies of the draft Environmental Assessment/Initial Regulatory Flexibility Analysis (EA/IRFA) prepared for this action are available from NMFS (see ADDRESSES) and comments must be received by December 20, 2002.

FOR FURTHER INFORMATION CONTACT: Tom Pearson, Sustainable Fisheries Division, Alaska Region, 907-481-1780 or e-mail at tom.pearson@noaa.gov.

SUPPLEMENTARY INFORMATION:

Background

NMFS manages the groundfish fisheries in the exclusive economic zone off Alaska under the Fishery Management Plan (FMP) for the Groundfish Fishery of the GOA. The North Pacific Fishery Management Council (Council) prepared the FMP under the authority of the Magnuson-Stevens Act, 16 U.S.C. 1801, et seq. Regulations governing U.S. fisheries and implementing the FMP appear at 50 CFR parts 600 and 679.

The FMP and implementing regulations require NMFS, after consultation with the Council, to specify annually the total allowable catch (TAC) for each target species and for the “other species” category, the sum of which must be within the optimum yield (OY) range of 116,000 to 800,000 metric tons (mt) (§ 679.20(a)(1)(ii). Regulations at § 679.20(c)(1) further require NMFS to publish annually, and solicit public comment on, proposed annual TACs, halibut PSC amounts, seasonal allowances of pollock, and inshore/offshore Pacific cod. The proposed specifications set forth in Tables 1 to 9 of this document satisfy these requirements. For 2003, the sum of the proposed TAC amounts is 233,166 mt. Under § 679.20(c)(3), NMFS will publish the final specifications for 2003 after (1) considering comments received within the comment period (see DATES), (2) consulting with the Council at its December 2002 meeting, and (3) considering new information presented in the EA, the final 2002 SAFE reports, and in the section 7 consultation prepared for the 2003 groundfish fisheries.

Regulations that will be effective with the final rule to implement major provisions of the American Fisheries Act (AFA) at § 679.20(c)(2)(i) provide that one-fourth of each proposed TAC and apportionment thereof (not including the reserves and the first seasonal allowances of pollock and Pacific cod), one-fourth of the proposed halibut PSC amounts, and the proposed first seasonal allowances of pollock and Pacific cod will become effective 0001 hours, Alaska local time (A.l.t.) January 1, 2003, on an interim basis and remain in effect until superseded by the final harvest specifications, which will be published in the Federal Register. Without interim specifications in effect on January 1, the groundfish fisheries would not be able to open on that date, which would result in unnecessary closures and disruption within the fishery industry.

By separate rulemaking, NMFS intends to publish in the Federal Register prior to January 1, 2003, the interim TAC specifications and apportionments thereof for the 2003 fishing year. These interim specifications would become effective 0001 hours, A.l.t., January 1, 2003, and would remain in effect until superseded by the final 2003 harvest specifications.

NMFS also intends to publish a final rule implementing regulatory provisions of the AFA in the Federal Register that would be effective for 2003. In order to minimize confusion, the proposed specifications also identify sideboard amounts for the AFA fisheries that will be available under the final rule. Also, NMFS has initiated rulemaking to permanently implement the Steller sea lion protection measures for 2003 and beyond. To minimize confusion and provide clarity to the 2003 specification process, we have included in the proposed 2003 harvest specifications pollock and Pacific cod seasonal allowances that are consistent with the existing protection measures.

Proposed Acceptable Biological Catch (ABC) and TAC Specifications

The proposed ABC and TAC for each species or species group are based on the best available biological and socioeconomic information, including projected biomass trends, information on assumed distribution of stock biomass, and revised methods used to calculate stock biomass. The Council, its Advisory Panel (AP), and its Scientific and Statistical Committee (SSC) reviewed the most current biological information about the condition of GOA groundfish stocks at their meetings in October 2002. This information was initially compiled by the Council's GOA Plan Team and was presented in the final 2001 SAFE report for the GOA groundfish fisheries, dated November 2001. The Plan Team annually produces such a document as the first step in the process of specifying TACs. The SAFE report contains a review of the latest scientific analyses and estimates of each species' biomass and other biological parameters, as well as summaries of the available information on the GOA ecosystem and the economic condition of the groundfish fisheries off Alaska. From these data and analyses, the Plan Team estimates an ABC for each species category. The 2001 SAFE report will be updated to include new information collected during 2002. Revised stock assessments will be made available by the Plan Team in November 2002 and will be included in the final 2002 SAFE report, which will be available the end of November 2002.

Until updated information becomes available at its December 2002 meeting and based on the recommendations from the SSC for overfishing levels (OFLs) and from the SSC and AP for ABCs, the Council recommended that the OFLs and ABCs for stocks in tiers 3 and above, except for pollock, be based upon biomass projections as set forth in the 2001 SAFE report and estimates of groundfish harvests through the 2002 fishing year. The Council recommended that OFL and ABC levels for those stocks in tiers 4 and below, for which projections cannot be made, be unchanged from 2002 levels (Table 1).

The SSC adopted the OFL and ABC recommendations from the Plan Team for all groundfish species categories except pollock. In the 2001 SAFE report, the ABC projection for 2003 is 75,995 mt for the combined Western, Central, and West Yakutat (W/C/WYK) GOA stock of pollock. The Plan Team did not endorse the ABC projection due to the low spawning biomass observed during the 2002 Shelikof survey and because it represents a substantial increase from the 2002 ABC. The Plan Team recommended an ABC of 43,390 mt for the W/C/WYK pollock stock based on the ratio of the 2002 hydroacoustic survey estimate of spawning biomass to the 2003 forecast Shelikof spawning biomass. Because of the results of the Shelikof Survey, the SSC did not support the use of the 2001 SAFE report projection for ABC. However, the SSC concurred with the pollock assessment recommendation that OFL and ABC levels be unchanged from 2002 levels until a formal stock assessment can be completed. The SSC determined that the Plan Team did not provide adequate written justification for the Plan Team's recommended ABC and that the uncertainties in the preliminary pollock data were so large that using the current method for recommending proposed ABC (either rollovers or 2001 SAFE report projections) is required.

As in 2002, the SSC's, AP's and Council's recommendation for the method of apportioning the sablefish ABC among management areas includes commercial fishery catch data as well as survey data. NMFS stock assessment scientists believe that the use of unbiased commercial fishery data reflecting catch-per-unit effort provides a desirable input for stock distribution assessments. The use of commercial fishery data is evaluated annually to assure that unbiased information is included in stock distribution models. The Council's recommendation for sablefish area apportionments also takes into account the prohibition on the use of trawl gear in the Southeast Outside (SEO) District of the Eastern GOA and makes available 5 percent of the combined Eastern GOA ABCs to trawl gear for use as incidental catch in other directed groundfish fisheries in the West Yakutat District.

The AP and Council recommended that the ABC for Pacific cod in the GOA be apportioned among regulatory areas based on the three most recent NMFS summer trawl surveys. As in previous years, the Plan Team, SSC, and Council recommended that total removals of Pacific cod from the GOA not exceed ABC recommendations. Accordingly, the Council recommended that the TACs be adjusted downward from the ABCs by amounts equal to the 2003 guideline harvest levels (GHL) established for Pacific cod by the State of Alaska (State) for the state managed fishery in the GOA. The effect of the State's GHL on the Pacific cod TAC is discussed in greater detail below.

For 2003, the Council recommended and NMFS proposed the ABCs listed in Table 1. These amounts reflect harvest amounts that are less than the specified overfishing amounts. The sum of the proposed 2003 ABCs for all assessed groundfish is 382,790 mt, which is lower than the 2002 ABC total of 394,780 mt.

Specification and Apportionment of TAC Amounts

The Council adopted the AP's proposals for the 2003 GOA TAC amounts. The Council recommended TACs that are equal to ABCs for pollock, deep-water flatfish, rex sole, sablefish, shortraker and rougheye rockfish, northern rockfish, Pacific Ocean perch, pelagic shelf rockfish, thornyhead rockfish, demersal shelf rockfish, and Atka mackerel. The Council-recommended TACs are less than the recommended ABCs for Pacific cod, flathead sole, shallow-water flatfish, arrowtooth flounder, and other rockfish.

The apportionment of the annual pollock TAC among the Western and Central Regulatory Areas of the GOA reflects the seasonal biomass distribution and is discussed in greater detail below. The annual pollock TAC in the Western and Central Regulatory Areas of the GOA is divided into four equal seasonal apportionments. Twenty-five percent of the annual TAC in the Western and Central Regulatory Areas of the GOA will be apportioned among Statistical Areas 610, 620, and 630 to each season: the A season (January 20 through February 25), the B season (March 10 through May 31), the C season (August 25 through September 15), and the D season (October 1 through November 1)(§ 679.23(d)(3)(i) through (iv) and § 679.20(a)(5)(ii)(C)).

The 2003 Pacific cod TAC is affected by the State's developing fishery for Pacific cod in State waters in the Central and Western Regulatory Areas of the GOA, as well as Prince William Sound. The SSC, AP, and Council recommended that the sum of all State and Federal water Pacific cod removals should not exceed the ABC. Accordingly, the Council recommended that the Pacific cod TACs be reduced from ABC levels to account for State GHLs in each regulatory area of the GOA so that the TAC for (1) the Eastern GOA be lower than the ABC by 758 mt, (2) the Central GOA be lower than the ABC by 6,043 mt, and (3) the Western GOA be lower than the ABC by 4,926 mt. These amounts reflect the sum of the State's 2003 GHLs in these areas which are 25 percent, 21.75 percent, and 25 percent of the Eastern, Central, and Western GOA ABCs, respectively. These percentages are unchanged from 2002.

NMFS is also establishing seasonal apportionments of the annual Pacific cod TAC in the Western and Central Regulatory Areas. Sixty percent of the annual TAC is apportioned to the A season for hook-and-line, pot and jig gear from January 1 through June 10, and for trawl gear from January 20 through June 10. Forty percent of the annual TAC is apportioned to the B season for hook-and-line, pot and jig gear from September 1 through December 31 and for trawl gear from September 1 through November 1 (§§ 679.23(d)(4) and 679.20(a)(11)). These seasonal apportionments of the annual Pacific cod TAC are discussed in greater detail below.

The FMP specifies that the amount for the “other species” category is calculated as 5 percent of the combined TAC amounts for target species. The proposed 2003 GOA-wide “other species” TAC is 11,103 mt, which is 5 percent of the sum of the combined proposed TAC amounts (226,322 mt) of the other groundfish species for which the TAC is specified. The sum of the proposed TACs for all GOA groundfish is 233,166 mt, which is within the OY range specified by the FMP. The sum of the 2003 proposed TACs is lower than the 2002 TAC sum of 237,890 mt.

NMFS finds that the Council's recommendations for proposed OFL, ABC, and TAC amounts are consistent with the biological condition of groundfish stocks as adjusted for other biological and socioeconomic considerations, including maintaining the total TAC within the required OY range of 116,000 to 800,000 mt. The proposed 2003 ABCs, TACs, and OFLs are shown in Table 1.

BILLING CODE 3510-22-S

BILLING CODE 3510-22-C

BILLING CODE 3510-22-C

BILLING CODE 3510-22-C

Proposed Apportionment of Reserves

Regulations implementing the FMP require 20 percent of each TAC for pollock, Pacific cod, flatfish, and the “other species” category be set aside in reserves for possible apportionment at a later date (§ 679.20(b)(2)). In 2002, NMFS reapportioned all of the reserves in the final harvest specifications. Between 1997 and 2000, NMFS retained the Pacific cod reserve to provide for a management buffer to account for excessive fishing effort and incomplete or late catch reporting. NMFS believes that the retention of reserve amounts no longer is necessary because estimates of catch and incidental catch needs in other directed fisheries have improved in recent years. For 2003, NMFS proposes reapportionment of all of the reserve for pollock, Pacific cod, flatfish, and “other species”. Specifications of TAC shown in Table 1 reflect proposed reapportionment of reserve amounts for these species and species groups.

Proposed Apportionments of the Sablefish TAC Amounts to Vessels Using Hook-and-Line and Trawl Gear

Under § 679.20(a)(4)(i) and (ii), sablefish TACs for each of the regulatory areas and districts of the GOA are allocated to hook-and-line and trawl gear. In the Western and Central Regulatory Areas, 80 percent of each TAC is allocated to hook-and-line gear and 20 percent of each TAC is allocated to trawl gear. In the Eastern Regulatory Area, 95 percent of the TAC is allocated to hook-and-line gear and 5 percent is allocated to trawl gear. The trawl gear allocation in the Eastern Regulatory Area may only be used to support incidental catch of sablefish in directed fisheries for other target species. In recognition of the trawl ban in the SEO District of the Eastern Regulatory Area, the Council recommended and NMFS proposes that 5 percent of the combined Eastern GOA sablefish TAC be allocated to trawl gear in the WYK District and the remainder to vessels using hook-and-line gear. In the SEO District, 100 percent of the sablefish TAC is allocated to vessels using hook-and-line gear. This recommendation results in a proposed allocation of 280 mt to trawl gear and 1,830 mt to hook-and-line gear in the WYK District and 3,490 mt to hook-and-line gear in the SEO District. Table 2 shows the allocations of the proposed 2003 sablefish TACs between hook-and-line gear and trawl gear.

Proposed Apportionments of Pollock TAC Among Seasons and Regulatory Areas, and Allocations for Processing by Inshore and Offshore Components

In the GOA, pollock is apportioned by season and area, and is further allocated for processing by inshore and offshore components. Under regulations at § 679.20(a)(5)(ii)(C), the annual pollock TAC specified for the Western and Central Regulatory Areas of the GOA is apportioned into four equal seasonal allowances of 25 percent. As established by § 679.23(d)(3), the A, B, C, and D season allowances are available from January 20 through February 25, from March 10 through May 31, from August 25 through September 15, and from October 1 through November 1, respectively.

Pollock TACs in the Western and Central Regulatory Areas of the GOA in the A and B seasons are apportioned among statistical areas 610, 620, and 630 in proportion to the distribution of pollock biomass as determined by a composite of NMFS winter surveys, and in the C and D seasons in proportion to the distribution of pollock biomass as determined by the four most recent NMFS summer surveys. Within any fishing year, underage or overage of a seasonal allowance may be added to or subtracted from subsequent seasonal allowances in a manner to be determined by the Regional Administrator, Alaska Region, NMFS, provided that the sum of a revised seasonal allowance does not exceed 30 percent of the annual TAC apportionment for the Central and Western Regulatory Areas in the GOA (§ 679.20(a)(5)(ii)(B)). For 2003, 30 percent of the proposed annual TAC for the Central and Western Regulatory Areas would be 15,187 mt. The WYK and SEO District pollock TACs of 1,165 mt and 6,460 mt, respectively, are not allocated seasonally.

Regulations at § 679.20(a)(6)(ii) require that 100 percent of the pollock TAC in all regulatory areas and all seasonal allowances thereof be allocated to vessels catching pollock for processing by the inshore component after subtraction of amounts that are projected by the Regional Administrator to be caught by, or delivered to, the offshore component incidental to directed fishing for other groundfish species. The amount of pollock available for harvest by vessels harvesting pollock for processing by the offshore component is that amount actually taken as incidental catch during directed fishing for groundfish species other than pollock, up to the maximum retainable amounts allowed under regulations at § 679.20(e) and (f). At this time, these incidental catch amounts are unknown and will be determined during the fishing year.

The proposed seasonal biomass distribution of pollock in the Western and Central GOA, area apportionments, and seasonal apportionments for the A, B, C, and D seasons are summarized in Table 3, except that amounts of pollock for processing by the inshore and offshore component are not shown.

Proposed Seasonal Apportionments of Pacific Cod TAC and Allocations for Processing of Pacific Cod TAC Between Inshore and Offshore Components

Pacific cod fishing is divided into two seasons in the Western and Central Regulatory Areas of the GOA. For hook-and-line, pot and jig gear, the A season begins on January 1 and ends on June 10, and the B season begins on September 1 and ends on December 31. For trawl gear, the A season begins on January 20 and ends on June 10, and the B season begins on September 1 and ends on November 1, (§ 679.23(d)(4)). After subtraction of incidental catch, 60 percent and 40 percent of the annual TAC will be available for harvest during the A and B seasons, respectively, and will be apportioned between the inshore and offshore processing components as provided in 50 CFR 679.20(a)(6)(iii). Between the A and the B seasons, directed fishing for Pacific cod is closed and fishermen participating in other directed fisheries may retain Pacific cod up to the maximum retainable amounts allowed under regulations at § 679.20(e) and (f). For purposes of clarification, NMFS points out that the A season and the B season Pacific cod fishery dates differ from those of the A, B, C, and D seasons for the pollock fisheries. In accordance with § 679.20(a)(11)(ii), any overage or underage of Pacific cod harvest from the A season shall be subtracted from or added to the subsequent B season.

Regulations at § 679.20(a)(6)(iii) require that the TAC apportionment of Pacific cod in all regulatory areas be allocated to vessels catching Pacific cod for processing by the inshore and offshore components. Ninety percent of the Pacific cod TAC in each regulatory area is allocated to vessels catching Pacific cod for processing by the inshore component. The remaining 10 percent of the TAC is allocated to vessels catching Pacific cod for processing by the offshore component. These seasonal apportionments and allocations of the proposed Pacific cod TAC for 2003 are shown in Table 4.

Proposed Pacific Halibut PSC Mortality Limits

Under § 679.21(d), annual Pacific halibut PSC limits are established and apportioned to trawl and hook-and-line gear and may be established for pot gear. In October 2002, the Council recommended, and NMFS proposes, to re-establish the 2002 halibut PSC limits of 2,000 mt for the trawl fisheries and 300 mt for the hook-and-line fisheries, with 10 mt of the hook-and-line limit allocated to the demersal shelf rockfish (DSR) fishery in the SEO District and the remainder to the remaining hook-and-line fisheries. The DSR fishery is defined at § 679.21(d)(4)(iii)(A) and historically has been apportioned this amount in recognition of its small scale harvests. Although observer data are not available to verify actual bycatch amounts given most vessels are less than 60 ft (18.3 m) length overall (LOA) and are exempt from observer coverage, halibut bycatch in the DSR fishery is assumed to be low because of the short soak times for the gear and the short duration of the DSR fishery. Also, the DSR fishery occurs in the winter when there is less of an overlap in the distribution of DSR and halibut.

Regulations at § 679.21(d)(4) authorize exemption of specified nontrawl fisheries from the halibut PSC limit. The Council recommended and NMFS proposes that pot gear, jig gear, and the hook-and-line sablefish fishery be exempted from the nontrawl halibut limit for 2003. The Council recommended and NMFS proposes these exemptions because of the low halibut bycatch mortality experienced in the pot gear fisheries (4 mt in 2001 and 2 mt in 2002) and because of the 1995 implementation of the sablefish and halibut Individual Fishing Quota (IFQ) program, which regulates the retention of legal-sized halibut in the sablefish fishery by persons holding IFQ permits for halibut. Halibut mortality for the jig gear fleet cannot be estimated because these vessels do not carry observers. However, halibut mortality is assumed to be very low given the small amount of groundfish harvested by jig gear (336 mt in 2001 and 277 mt in 2002) and the assumed high survival rate of any halibut that are incidentally taken by jig gear and released.

Under § 679.21(d)(5), NMFS seasonally apportions the halibut PSC limits based on recommendations from the Council. The FMP and regulations require that the following information be considered by the Council and NMFS in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

The emergency rule establishing the final 2002 groundfish and PSC specifications (66 FR 956, January 8, 2002) summarizes Council and NMFS findings with respect to each of the FMP considerations set forth here. At this time, the Council's and NMFS' findings are unchanged from those set forth in 2002. Proposed Pacific halibut PSC limits, and apportionments thereof, are presented in Table 5. Regulations at § 679.21(d)(5)(iii) and (iv) specify that any overages or shortfalls in a seasonal apportionment of a PSC limit will be deducted from or added to the next respective seasonal apportionment within the 2003 fishing year.

BILLING CODE 3510-22-S

BILLING CODE 3510-22-C

Regulations at § 679.21(d)(3)(ii), authorize the trawl halibut PSC limit to be further apportioned to trawl fishery categories, based on each category's proportional share of the anticipated halibut bycatch mortality during a fishing year and the need to optimize the amount of total groundfish harvest under the halibut PSC limit. The fishery categories for the trawl halibut PSC limits are: a deep-water species complex, comprised of sablefish, rockfish, deep-water flatfish, rex sole and arrowtooth flounder; and a shallow-water species complex, comprised of pollock, Pacific cod, shallow-water flatfish, flathead sole, Atka mackerel, and “other species” (§ 679.21(d)(3)(iii)). The proposed apportionment for these two fishery complexes is presented in Table 6.

Based on public comment and information contained in the final 2002 SAFE report, which will be available in December 2002, the Council may recommend, or NMFS may make, some changes in the seasonal, gear-type, and fishing-complex apportionments of halibut PSC limits for the final 2003 harvest specifications. NMFS will consider the following types of information in setting final halibut PSC limits.

(A) Estimated Halibut Bycatch in Prior Years

The best available information on estimated halibut bycatch is data collected by observers during 2002. The calculated halibut bycatch mortality by trawl, hook-and-line, and pot gear through October 5, 2002, is 1,810 mt, 206 mt, and 2 mt, respectively, for a total halibut mortality of 2,018 mt.

Halibut bycatch restrictions seasonally constrained trawl gear fisheries during the 2002 fishing year. Trawling during the second season closed for the shallow-water complex on May 15 (67 FR 35448, May 20, 2002) and for the deep-water fishery complex on May 24 (67 FR 37726, May 30, 2002). Trawling during the third season closed for the shallow-water complex on August 5 (67 FR 51499, August 8, 2002) and for the deep-water fishery complex on August 2 (67 FR 51129, August 7, 2002). Trawling during the fourth season closed for both the shallow-water complex and the deep-water fishery complex on September 1 (67 FR 55730, August 30, 2002, and 67 FR 56320, September 3, 2002). All trawling in the GOA closed (with the exception of pelagic trawl gear targeting pollock) for the remainder of the year on October 13 (67 FR 64066, October 17, 2002).

(B) Expected Changes in Groundfish Stocks

Proposed 2003 ABCs for sablefish and Pacific ocean perch are higher than those established for 2002. Proposed 2003 ABCs for Pacific cod, arrowtooth flounder, and northern rockfish are lower than those established for 2002. Proposed 2003 ABC levels for the remaining target species are unchanged from 2002. More information on these changes is included in the 2001 SAFE report (November 2001) and in the Council and SSC October 2002 meeting minutes.

(C) Expected Changes in Groundfish Catch

The total of the proposed 2003 TACs for the GOA is 233,166 mt, a decrease of 2 percent from the 2002 TAC total of 237,638 mt. Those fisheries for which the 2003 TACs are lower than in 2002 are Pacific cod (decreased to 38,793 mt from 44,230 mt), northern rockfish (decreased to 4,700 mt from 4,980 mt), and other species (decreased to 11,103 mt from 11,330 mt). Those species for which the 2003 TACs are higher than in 2002 are sablefish (increased to 13,930 mt from 12,820 mt) and Pacific ocean perch (increased to 13,300 mt from 13,190 mt).

(D) Current Estimates of Halibut Biomass and Stock Condition

The most recent halibut stock assessment was conducted by the International Pacific Halibut Commission (IPHC) in December 2001. The halibut resource is considered to be healthy, with total catch near record levels. The current exploitable halibut biomass for 2002 is estimated to be 273,950 mt. This is an increase from the estimate of 249,007 mt in 2001.

The exploitable biomass of the Pacific halibut stock apparently peaked at 326,520 mt in 1988. According to the IPHC, the long-term average reproductive biomass for the Pacific halibut resource is estimated at 118,000 mt. Long-term average yield is estimated at 26,980 mt, round weight. The species is fully utilized. Recent average catches (1994-96) were 33,580 mt for the U.S. and 6,410 mt for Canada, for a combined total of 39,990 mt for the entire Pacific halibut resource. This catch is 48 percent higher than long-term potential yield, which reflects the good condition of the Pacific halibut resource. In January 2002 the IPHC recommended commercial catch limits totaling 36,812 mt (round weight equivalents) for Alaska in 2002, down slightly from 37,120 mt in 2001. Through October 11, 2002, commercial hook-and-line harvests of halibut in Alaska total 33,312 mt (round weight equivalents).

The major changes in the 2001 assessment results were: a separate treatment of Areas 2A and 2B in the assessment, whereas they had been previously combined; the incorporation of additional survey information in Areas 2C and 3A; and a revision in the estimate of halibut habitat in all areas. The separation of Areas 2A and 2B and some computational changes resulted in increased estimates of exploitable biomass in both areas. Exploitable biomass was estimated to be slightly lower in Area 2C and slightly higher in Area 3A as a result of these changes. Revisions of halibut habitat based on bottom areas were completed for all regulatory areas but the effect was minor, except in Area 4B, where the change resulted in an approximate 30 percent decrease in habitat.

The outlook for the stock biomass over the near future is for a slow decline from the record high levels of recent years due to lower recruitment associated with unfavorable environmental conditions for halibut recruitment. However, the halibut biomass is still above the long-term average level and is expected to remain above this level for the next several years.

Additional information on the Pacific halibut stock assessment may be found in the final 2001 SAFE report (November 2001) and in the IPHC's 2001 Pacific halibut stock assessment (December 2001). The 2002 Pacific halibut stock assessment for 2003 will be considered by the IPHC at its January 2003 annual meeting in setting the 2003 commercial halibut fishery quotas.

(E) Other Factors

The allowable commercial catch of halibut will be adjusted to account for the overall halibut PSC mortality limit established for the groundfish fisheries. The 2003 GOA groundfish fisheries are expected to use the entire proposed halibut PSC limit of 2,300 mt. The allowable directed commercial catch is determined by accounting for the recreational and subsistence catch, waste, and bycatch mortality and then providing the remainder to the directed fishery. Groundfish fishing is not expected to adversely affect the halibut stocks.

Methods available for reducing halibut bycatch include:

(1) reducing halibut bycatch rates through the Vessel Incentive Program; (2) modifications to gear; (3) changes in groundfish fishing seasons; (4) individual transferable quota programs; and (5) time/area closures.

Reductions in groundfish TAC amounts provide no incentive for fishermen to reduce bycatch rates. Costs that would be imposed on fishermen as a result of reducing TAC amounts depend on the species and amounts of groundfish foregone.

Trawl vessels carrying observers for purposes of complying with observer coverage requirements (§ 679.50) are subject to the Vessel Incentive Program. This program encourages trawl fishermen to avoid high halibut bycatch rates while conducting groundfish fisheries by specifying bycatch rate standards for various target fisheries.

Current regulations (under § 679.2, Definitions, Authorized fishing gear number (12)) specify requirements for biodegradable panels and tunnel openings for groundfish pots to reduce halibut bycatch. As a result, low bycatch and mortality rates of halibut in pot fisheries have justified exempting pot gear from PSC limits.

The regulations also define pelagic trawl gear in a manner intended to reduce bycatch of halibut by displacing fishing effort off the bottom of the sea floor when certain halibut bycatch levels are reached during the fishing year. The definition provides standards for physical conformation (§ 679.2, see Authorized fishing gear number (11)) and performance of the trawl gear in terms of crab bycatch (§ 679.7(a)(14)). Furthermore, all hook-and-line vessel operators are required to employ careful release measures when handling halibut bycatch (§ 679.7(a)(13)). These measures are intended to reduce handling mortality, thereby possibly lowering overall halibut bycatch mortality in groundfish fisheries, and to increase the amount of groundfish harvested under the available halibut mortality bycatch limits.

The sablefish/halibut IFQ program (implemented in 1995) was intended, in part, to reduce the halibut discard mortality in the sablefish fishery.

Consistent with the goals and objectives of the FMP to reduce halibut bycatch while providing an opportunity to harvest the groundfish OY, NMFS proposes the assignments of 2,000 mt and 300 mt of halibut PSC limits to trawl and hook-and-line gear, respectively. While these limits would reduce the harvest quota for commercial halibut fishermen, NMFS has determined that they would not result in unfair allocation to any particular user group as these PSCs establish an upper limit on the impact of the groundfish fisheries on the commercial halibut fishery in the GOA. NMFS recognizes that some halibut bycatch will occur in the groundfish fishery, but the Vessel Incentive Program, required modifications to gear, and implementation of the halibut/sablefish IFQ program are intended to reduce adverse impacts on halibut fishermen while promoting the opportunity to achieve the OY from the groundfish fishery. NMFS and the Council will review the methods available for reducing halibut bycatch listed here to determine their effectiveness, and will initiate changes, as necessary, in response to this review or to public testimony and comment.

Halibut Discard Mortality Rates

The Council recommended, and NMFS proposes, that the halibut discard mortality rates (DMRs) recommended by the staff of the IPHC for the 2002 GOA groundfish fisheries be used to monitor halibut bycatch mortality limits established for the 2003 GOA groundfish fisheries. The IPHC recommended use of long-term average DMRs for the 2001-2003 groundfish fisheries. The IPHC recommendation also includes a provision that DMRs could be revised should analysis indicate that a fishery's annual DMR diverges substantially (up or down) from the long-term average. Most of the DMRs were based on an average of mortality rates determined from NMFS observer data collected between 1990 and 1999. DMRs were lacking for some fisheries, so rates from the most recent years were used. For the “other species” fishery, where insufficient mortality data are available, the mortality rate of halibut caught in the Pacific cod fishery for that gear type was recommended as a default rate. The DMRs proposed for 2003 are unchanged from those used in 2002 in the GOA. The proposed DMRs for hook-and-line targeted fisheries range from 8 to 24 percent. The proposed DMRs for trawl targeted fisheries range from 58 to 72 percent. The proposed DMRs for all pot targeted fisheries is 14 percent. The proposed 2003 DMRs are listed in Table 7.

BILLING CODE 3510-22-C

Non-exempt AFA Catcher Vessel Groundfish Harvest and PSC Limitations

Regulations that will be effective with the final rule to implement major provisions of the AFA in the GOA would place groundfish harvesting and processing limitations, also called sideboards, on AFA catcher/processors and catcher vessels in the GOA. These limitations are necessary to protect the interests of fishermen and processors who have not directly benefitted from the AFA from fishermen and processors who have received exclusive harvesting and processing privileges under the AFA. Under the AFA regulations, unrestricted AFA catcher/processors (§ 679.4(l)(2)(i)) are prohibited from fishing for any species of fish (§ 679.7(k)(1)(ii)) and from processing any groundfish harvested in Statistical Area 630 of the GOA (§ 679.7(k)(1)(iv)). The Council recommended that certain AFA catcher vessels in the GOA be exempt from groundfish harvest limitations. The AFA regulations would exempt AFA catcher vessels in the GOA less than 125 ft (38.1 m) LOA whose annual BSAI pollock landings totaled less than 5,100 mt and that made 40 or more GOA groundfish landings from 1995 through 1997 (§ 679.63(b)(1)(i)(B)).

For non-exempt AFA catcher vessels in the GOA, harvest limitations are based upon their traditional harvest levels of TAC in groundfish fisheries covered by the GOA FMP. The AFA regulations would base the groundfish harvest limits in the GOA on the retained catch of non-exempt AFA catcher vessels of each sideboard species from 1995 through 1997 divided by the TAC for that species over the same period (§ 679.63(b)(1)(ii)(C)). These amounts are listed in Table 8. All harvests of sideboard species made by non-exempt AFA catcher vessels, whether as targeted catch or incidental catch, would be deducted from the sideboard limits in Table 8.

BILLING CODE 3510-22-S

BILLING CODE 3510-22-C

BILLING CODE 3510-22-C

Regulations that will be effective with the final rule to implement major provisions of the AFA provide that PSC bycatch limits for non-exempt AFA catcher vessels in the GOA are based upon the ratio of aggregate retained groundfish catch by non-exempt AFA catcher vessels in each PSC target category from 1995 through 1997 relative to the retained catch of all vessels in that fishery from 1995 through 1997 (§ 679.63(b)(1)(iii)). These amounts are shown in Table 9.

BILLING CODE 3510-22-C

Classification

This action is authorized under 50 CFR 679.20 and is exempt from review under Executive Order 12866.

Pursuant to section 7 of the Endangered Species Act (ESA), NMFS has initiated consultation on the effects of the 2003 harvest specifications on listed species, including the Steller sea lion, and designated critical habitat. This consultation will be completed in December 2002 before the start of the 2003 groundfish fishery. This consultation cannot be completed until new fishery information is available in late November.

NMFS prepared a draft EA that describes the impacts on the human environment that would result from implementation of the proposed harvest specifications. A final EA that describes the impacts on the human environment that will result from implementation of the final 2003 harvest specifications will be prepared after the public comment period and after the December 2002 Council meeting. The final EA will also incorporate the findings of the section 7 consultations under the ESA on the 2003 harvest specifications.

NMFS prepared an IRFA for this action in accordance with the provisions of the Regulatory Flexibility Act of 1980, as amended by the Small Business Regulatory Enforcement Fairness Act of 1996 (5 U.S.C. 603(b)). This IRFA evaluated the effects of the proposed specifications on regulated small entities. The reasons for the action, a statement of the objectives of the action, and the legal basis for the proposed rule, are discussed earlier in the preamble.

The small entities affected by this action are those that harvest fish under the terms of the specifications in the GOA. The IRFA identified 1,264 small catcher vessels and 16 small catcher/processors. Data on operating costs for these entities does not exist, so it is impossible to make estimates of net returns or cash flow. Changes in estimated first wholesale gross revenues between the proposed 2003 specifications and estimated 2002 gross revenues (used as a baseline) were used as an index of adverse impact on small entities. The preferred alternative was found to have estimated aggregate gross revenues very similar to those in 2002. Therefore, this alternative was not found to have an adverse impact.

No projected additional reporting, recordkeeping and other compliance requirements exist in the proposed rule. No relevant Federal rules exist that may duplicate, overlap or conflict with the proposed rule.

The preferred alternative was compared to the four other alternatives usually evaluated during the specifications process. These alternatives are defined by the use of different harvest rates (F values). The other alternatives are, (a) Set F equal to maxFABC , (b) Set F equal to 50 percent of maxFABC, (c) Set F equal to the most recent five year average actual F, and (d) Set F equal to zero. The preferred alternative was associated with gross revenues very similar to those of alternative (a). The model was unable to discern a meaningful difference. The preferred alternative was found to generate gross revenues larger than those for alternatives (b), (c), and (d). Three of the alternatives examined, therefore, were found to have an adverse impact. The fourth was found, like the proposed specifications, to have no adverse impact.

Authority: 16 U.S.C. 773 et seq. 16 U.S.C. 1801 et seq., and 3631 et seq.

Dated: December 6, 2002.
William T. Hogarth,
Assistant Administrator for Fisheries, National Marine Fisheries Service.

[FR Doc. 02-31368 Filed 12-11-02; 8:45 am]

BILLING CODE 3510-22-S